DEPARTMENT OF VETERANS AFFAIRS

[OMB Control No. 2900-0265]

Agency Information Collection Activity Under OMB Review: Personalized Career Planning and Guidance

AGENCY: Veterans Benefits Administration (VBA), Department of Veterans Affairs (VA).

ACTION: Notice.

SUMMARY: In compliance with the Paperwork Reduction Act (PRA) of 1995, this notice announces that the VBA, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under 30-day Review—Open for Public Comments,” then search the list for the information collection by the Title or “OMB Control No. 2900-0265.

FOR FURTHER INFORMATION CONTACT: Maribel Aponte, Office of Enterprise and Integration, Data Governance Analytics (008), 810 Vermont Ave. NW, Washington, DC 20006, (202) 266-4688 or email maribel.aponte@va.gov. Please refer to OMB Control No. 2900-0265 in any correspondence.

SUPPLEMENTARY INFORMATION:

Authority: 38 U.S.C. chapter 36.

Title: Personalized Career Planning and Guidance (VA Form 25-8832).

OMB Control Number: 2900-0265.

Type of Review: Revision of a previously approved collection.

Abstract: VA Form 25-8832 is primarily used for the eligibility determination for chapter 36 benefits. If this information is not collected, the eligibility determination for chapter 36 benefit cannot be made. It would affect eligible transitioning Service members, Veterans, and dependents in obtaining educational and vocational counseling. Collection of the information is the only way VA may make a decision in regard to chapter 36 benefits.

VA Form 25-8832 has been updated to include branch of service, component, character of discharge, a question to determine if the applicant is attending school/training facility, and the form number has changed from VA Form 28-8832 to VA Form 25-8832.

An agency may not conduct or sponsor, and a person is not required to respond to a collection of information unless it displays a currently valid OMB control number. The Federal Register Notice with a 60-day comment period soliciting comments on this collection of information was published at 88 FR 40 on March 1, 2023, pages 13013.

Affected Public: Individuals or households.

Estimated Annual Burden: 2,000.

Estimated Average Burden per Respondent: 15 minutes.

Frequency of Response: One time.

Estimated Number of Respondents: 8,000.

By direction of the Secretary.
Dorothy Glasgow,
VA PRA Clearance Officer, (Alt.), Office of Enterprise and Integration, Data Governance Analytics, Department of Veterans Affairs.

[FR Doc. 2023-09588 Filed 5-4-23; 8:45 am]

BILLING CODE 8320-01-P